DEPARTMENT OF ENERGY

Federal Energy Regulatory Commission

[Docket No. EL00-54-000]

Unicom Investments, Inc.; Notice of Filing

April 12, 2000.

Take notice that on March 29, 2000, Unicom Investments, Inc. (UII), on behalf of itself and certain grantor trusts, business trusts or limited liability companies or partnerships of limited liability companies of which UII would be the sole beneficiary or member, filed with the Federal Energy Regulatory Commission a letter clarifying that the facilities leased under the lease/leaseback transactions described in its Petition of March 17, 2000 may include associated step-up transformers and/or interconnecting transmission facilities.

Any person desiring to be heard or to protest such filing should file a motion to intervene or protest with the Federal Energy Regulatory Commission, 888 First Street, NE., Washington, DC 20426, in accordance with rules 211 and 214 of the Commission's Rules of Practice and Procedure (18 CFR 385.211 and 385.214). All such motions and protests should be filed on or before April 21, 2000. Protests will be considered by the Commission to determine the appropriate action to be taken, but will not serve to make protestants parties to the proceedings. Any person wishing to become a party must file a motion to intervene. Copies of this filing are on file with the Commission and are available for public inspection. This filing may also be viewed on the Internet at http://www.ferc.fed.us/online/rims.htm (call 202-208-2222 for assistance).

Linwood A. Watson, Jr.,
Acting Secretary.

[FR Doc. 00-9630 Filed 4-17-00; 8:45 am]

BILLING CODE 6717-01-M